DEPARTMENT OF AGRICULTURE

Forest Service

Intergovernmental Advisory Committee Meeting, Northwest Forest Plan

AGENCY: Forest Service, USDA.

ACTION: Notice of meeting.

SUMMARY: The Intergovernmental Advisory Committee (IAC), Northwest Forest Plan (NWFP), will meet on July 21, 2004, in the Florence Events Center located at 715 Quince Street, Florence, Oregon. The meeting will begin at 8 a.m. and adjourn at approximately 12 noon. The purpose of the meeting in general is to continue committee discussions related to NWFP implementation. Meeting agenda items include, but are not limited to the 10-year monitoring report process, Northern Spotted Owl status analysis, stewardship contracting, and several status reports related to ongoing implementation improvement activities. The meeting is open to the public and fully accessible for people with disabilities. A 15-minute time slot is reserved for public comments at 8:15 a.m. Interpreters are available upon request at least 10 days prior to the meeting. Written comments may be submitted for the meeting record. Interested persons are encouraged to attend.

FOR FURTHER INFORMATION CONTACT: Questions regarding this meeting may be directed to Kath Collier, Management Analyst, Regional Ecosystem Office, 333 SW., First Avenue, PO Box 3623, Portland, OR 97208 (telephone: 503-808-2165).

Dated: June 24, 2004.
Anne Badgley,
Designated Federal Official.

[FR Doc. 04-15669 Filed 7-9-04; 8:45 am]

BILLING CODE 3410-11-P